DEPARTMENT OF ENERGY

Federal Energy Regulatory Commission

[Docket No. CP18-13-000]

Columbia Gas Transmission, LLC; Notice of Request for Extension of Time

Take notice that on January 7, 2021, Columbia Gas Transmission, LLC (Columbia) requested that the Federal Energy Regulatory Commission (Commission) grant an extension of time, until January 17, 2023, to complete construction of, and place into service, Sections 1 and 2 of its Line 8000 Replacement Project (Project) located in Mineral County, West Virginia, and Allegany County, Maryland, as authorized in the January 17, 2019 Order Issuing Certificate and Granting Abandonment (Order).¹ Ordering Paragraph B(1) of the Order required Columbia to complete the construction of the Project facilities and make them available for service within two years from issuance, or by January 17, 2021.²

¹ Columbia Gas Transmission, LLC, 166 FERC 61,037 (2019).

² Sections 3, 4 and 5 of the Project were completed and placed into service on September 6, August 22, and August 11, 2019, respectively.

Columbia states that due to unforeseen delays in reaching an agreement from the Maryland Department of Natural Resources (MDNR) for land rights across state-owned lands, additional time is required in order to complete Sections 1 and 2 of the Project.³

³ Section 1 consists of Line 8000, and associated facilities, from MP 0.0 to 0.4. Section 2 consists of Line 8000, and associated facilities, from MP 0.9 to 7.3.

Columbia avers that on November 18, 2020, it filed a letter explaining a phased approach to initiating construction for the remaining Project facilities and included a request to commence construction, including certain project modifications, of Section 2 excluding facilities crossing state-owned lands. Columbia asserts that Phase 2a (Section 2 excluding facilities crossing state-owned lands) would be constructed in 2021 and Phase 2b (Section 1 and facilities crossing state-owned lands in Section 2) would be constructed in 2022, subject to an agreement with the MDNR. Accordingly, Columbia now requests an additional two years, or until January 17, 2023, to complete the authorized construction of Sections 1 and 2 of its Line 8000 Replacement Project and make them available for service.

This notice establishes a 15-calendar day intervention and comment period deadline. Any person wishing to comment on Columbia's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).⁴

⁴ Only motions to intervene from entities that were party to the underlying proceeding will be accepted. Algonquin Gas Transmission, LLC, 170 FERC 61,144, at P 39 (2020).

As a matter of practice, the Commission itself generally acts on requests for extensions of time to complete construction for Natural Gas Act facilities when such requests are contested before order issuance. For those extension requests that are contested,⁵ the Commission will aim to issue an order acting on the request within 45 days.⁶ The Commission will address all arguments relating to whether the applicant has demonstrated there is good cause to grant the extension.⁷ The Commission will not consider arguments that re-litigate the issuance of the Certificate Order, including whether the Commission properly found the project to be in the public convenience and necessity and whether the Commission's environmental analysis for the certificate complied with the National Environmental Policy Act.⁸ At the time a pipeline requests an extension of time, orders on certificates of public convenience and necessity are final and the Commission will not re-litigate their issuance.⁹ The OEP Director, or his or her designee, will act on those extension requests that are uncontested.

⁵ Contested proceedings are those where an intervenor disputes any material issue of the filing. 18 CFR 385.2201(c)(1) (2020).

⁶ Algonquin Gas Transmission, LLC, 170 FERC ¶ 61,144, at P 40 (2020).

⁷ Id. P 40.

⁸ Similarly, the Commission will not re-litigate the issuance of an NGA section 3 authorization, including whether a proposed project is not inconsistent with the public interest and whether the Commission's environmental analysis for the permit order complied with NEPA.

⁹ Algonquin Gas Transmission, LLC, 170 FERC 61,144, at P 40 (2020)

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning COVID-19, issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission, 888 First Street, NE, Washington, DC 20426. Hand delivered submissions in docketed proceedings should be delivered to Health and Human Services, 12225 Wilkins Avenue, Rockville, Maryland 20852.

Comment Date: 5:00 p.m. Eastern Time on, January 26, 2021.

Dated: January 11, 2021.
Nathaniel J. Davis, Sr.,
Deputy Secretary.

[FR Doc. 2021-00856 Filed 1-14-21; 8:45 am]

BILLING CODE 6717-01-P